DEPARTMENT OF HEALTH AND HUMAN SERVICES

Call for Collaborating Partners for National Women's Health Week

AGENCY: Office on Women's Health, Office of the Assistant Secretary for Health, Office of the Secretary, Department of Health and Human Services.

ACTION: Notice.

SUMMARY: The Department of Health and Human Services (HHS), Office on Women's Health (OWH) invites public and private-sector health-related organizations to participate in National Women's Health Week (NWHW) as partners to help create awareness of women's health issues and educate women about improving their health and preventing disease.

DATES: Representatives of women's health organizations should submit expressions of interest no later than April 18, 2013.

ADDRESSES: Expressions of interest, comments, and questions may be submitted by electronic mail to Henrietta.terry@hhs.gov or by regular mail to Jill Wasserman, Office on Women's Health, Department of Health and Human Services, 200 Independence Avenue SW., Room 733E, Washington, DC 20201; or via fax to (202) 690-7172.

FOR FURTHER INFORMATION CONTACT: Henrietta Terry on (202) 205-1952.

SUPPLEMENTARY INFORMATION: The OWH was established in 1991 to improve the health of American women by advancing and coordinating a comprehensive women's health agenda throughout HHS. The office fulfills its mission by advancing policy and issuing competitive contracts to an array of community, academic, and other organizations at the national and community levels. In addition, OWH's national educational campaigns provide information about the important steps women can take to improve and maintain their health, such as NWHW.

NWHW is a week-long health observance that kicks off on Mother's Day, Sunday, May 12 and ends Saturday, May 18, 2013. NWHW seeks to educate women about improving their physical and mental health and preventing disease. More than 2,200 events were held nationwide in 2012. Week-long, daily messages encourage women to make their health a top priority and take simple steps for a longer, healthier, and happier life. For more information about NWHW, please visit http://womenshealth.gov/nwhw/.

Dated: March 27, 2013.
Nancy C. Lee,
Deputy Assistant Secretary for Health—Women's Health.

[FR Doc. 2013-07617 Filed 4-1-13; 8:45 am]

BILLING CODE 4150-33-P